DEPARTMENT OF ENERGY

Federal Energy Regulatory Commission

[Docket No. EL03-124-001, et al.]

Southwestern Power Administration, et al.; Electric Rate and Corporate Filings

November 28, 2003.

The following filings have been made with the Commission. The filings are listed in ascending order within each docket classification.

1. Southwestern Power Administration v. Entergy Arkansas, Inc., Entergy Services, Inc.

[Docket Nos. EL03-124-001 and ER03-843-001]

Take notice that on November 14, 2003, Entergy Services, Inc. (Entergy), as agent for Entergy Arkansas, Inc. (EAI) filed a settlement between EAI and Southwestern Power Administration (Southwestern) which resolves their disputes with respect to Contract DE-PM75-94SW00246-M002.

Comment Date: December 5, 2003.

2. Cogeneration National Corporation

[Docket No. EG04-18-000]

On November 21, 2003, Cogeneration National Corporation (GNC) filed with the Commission pursuant to part 365 of the Commission's regulations an application for a determination of exempt wholesale generator (EWG) status as of the date of the Application. CNG states that it is a corporation duly organized under the laws of California. CNG further states that it is an indirect owner of a partial interest in a 44-MW coal-fueled cogeneration eligible facility located in Stockton, California.

Comment Date: December 12, 2003.

3. CNC/SEGS, Inc.

[Docket No. EG04-19-000]

On November 21, 2003, CNC/SEGS, Inc. (CNC/SEGS) filed with the Commission pursuant to Part 365 of the Commission's regulations an application for a determination of exempt wholesale generator (EWG) status as of the date of the Application. CNC/SEGS states that it is a corporation duly organized under the laws of California. CNC/SEGS further states that it is an indirect owner of a partial interest in a solar-powered small power production facility located near Kramer Junction, California.

Comment Date: December 12, 2003.

4. Southern Company Services, Inc.

[Docket No. ER02-851-013]

Take notice that on November 21, 2003, Southern Company Services, Inc., acting on behalf of Alabama Power Company, Georgia Power Company, Gulf Power Company, Mississippi Power Company, and Savannah Electric and Power Company (collectively, Southern Companies), submitted a compliance filing related to the Commission's March 27, 2002 order, 98 FERC ¶ 61,328 (2002), its October 3, 2003 order, 105 FERC ¶ 61,019 (2003), and the Settlement filed on June 18, 2003.

Comment Date: December 12, 2003.

5. The United Illuminating Company

[Docket No. ER03-31-003]

Take notice that on November 21, 2003, The United Illuminating Company (UI) submitted for fling with the Federal Energy Regulatory Commission (Commission) a revised Interconnection Agreement between UI and Cross-Sound Cable Company, L.L.C., pursuant to UI's Open Access Transmission Tariff, FERC Electric Tariff, Original Volume No. 4, as amended. UI states that the filing is submitted in compliance with the Commission's October 22, 2003 Order on Rehearing and Compliance Filing, 105 FERC ¶ 61,092 (2003).

Comment Date: December 12, 2003.

6. California Independent System Operator Corporation

[Docket No. ER03-1046-002]

Take notice that on November 21, 2003, the California Independent System Operator Corporation (ISO) submitted a compliance filing in response to the Commission's order issued October 22, 2003 concerning Amendment No. 54 to the ISO Tariff, 105 FERC ¶ 61,091 (2003).

The ISO states that the compliance filing has been served on all parties to this proceeding.

Comment Date: December 12, 2003.

7. Midwest Independent Transmission System Operator, Inc.

[Docket No. ER03-1277-001]

Take notice that on November 21, 2003, the Midwest Independent Transmission System Operator, Inc. (Midwest ISO) submitted for filing revisions to Schedule 10-FERC of its Open Access Transmission Tariff, FERC Electric Tariff, Second Revised Volume No. 1, in compliance with the Commission's October 28, 2003 Order issued in Docket No. ER03-1277-000, 105 FERC ¶ 61,144 (2003). The Midwest ISO an effective date of September 1, 2003.

The Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter. The Midwest ISO will provide hard copies to any interested parties upon request.

Comment Date: December 12, 2003.

8. NEGT Energy Trading—Power, L.P.

[Docket No. ER04-69-001]

Take notice that on November 21, 2003, NEGT Energy Trading—Power, L.P. amended its October 23, 2003 filing in Docket No. ER04-69-000 to correct the effective date of its Fourth Revised FERC Electric Rate Schedule No. 1. The proposed effective date is October 24, 2003.

Comment Date: December 12, 2003.

9. University Park Energy, LLC

[Docket No. ER04-212-000]

Take notice that on November 21, 2003, University Park Energy, LLC (University Park) tendered for filing, pursuant to Section 205 of the Federal Power Act, as FERC Electric Tariff, Original Volume No. 2 a Black Start Service Agreement by and between University Park and Commonwealth Edison Company (ComEd) pursuant to which University Park will provide Black Start service to ComEd from its 300 MW natural gas-fired generating facility located in University Park, Illinois.

University Park states that a copy of this filing was mailed to ComEd and the Illinois Commerce Commission.

Comment Date: December 12, 2003.

10. AK Electric Supply LLC

[Docket No. ER04-213-000]

Take notice that on November 21, 2003, AK Electric Supply LLC (AK) petitioned the Commission for acceptance of WCW Rate Schedule FERC No. 1; the granting of certain blanket approvals, including the authority to sell electricity at market-based rates; and the waiver of certain Commission regulations.

AK states that it intends to engage in wholesale electric power and energy purchases and sales as a marketer. AL further states that it is not in the business of generating or transmitting electric power.

Comment Date: December 12, 2003.

11. WCW International, Inc.

[Docket No. ER04-214-000]

Take notice that on November 21, 2003, WCW International, Inc. (WCW) petitioned the Commission for acceptance of WCW Rate Schedule FERC No. 1; the granting of certain blanket approvals, including the authority to sell electricity at market-based rates; and the waiver of certain Commission regulations.

WCW states that it intends to engage in wholesale electric power and energy purchases and sales as a marketer. WCW further states that it is not in the business of generating or transmitting electric power.

Comment Date: December 12, 2003.

12. Pacific Gas and Electric Company

[Docket No. ER04-215-000]

Take notice that on November 21, 2003, Pacific Gas and Electric Company (PG&E) tendered for filing the Small Facilities Authorization Letter No. 6, submitted pursuant to the Procedures for Implementation (Procedures) of Section 3.3 of the 1987 Agreement between PG&E and the City and County of San Francisco (City). PG&E states that this is PG&E's fifth quarterly filing submitted pursuant to section 4 of the Procedures, which provides for the quarterly filing of Facilities Authorization Letters. PG&E has requested certain waivers.

PG&E states that copies of this filing have been served upon the City, the California Independent System Operator Corporation, and the California Public Utilities Commission.

Comment Date: December 12, 2003.

13. NEO California Power LLC

[Docket No. ER04-220-000]

Take notice that on November 21, 2003, NEO California Power LLC (NEO California) tendered for filing Schedule A (Contract Service Limits for the 2004 Contract Year), associated with a Must-Run Service Agreement (RMR Agreement) between NEO California and the California Independent System Operator Corporation.

Comment Date: December 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00482 Filed 12-05-03; 8:45 am]

BILLING CODE 6717-01-P